DEPARTMENT OF HEALTH AND HUMAN SERVICES

Health Resources and Services Administration

Organ Procurement and Transplantation Network

AGENCY: Health Resources and Services Administration, HHS.

ACTION: Notice of meeting of the Advisory Committee on Organ Transplantation.

SUMMARY: Pursuant to Public Law 92-463, the Federal Advisory Committee Act, as amended (5 U.S.C. Appendix 2), notice is hereby given of the third meeting of the Advisory Committee on Organ Transplantation (ACOT), Department of Health and Human Services (HHS). The meeting will be held from approximately 9 a.m. to 5:30 p.m. on November 18, 2002, and from 9 a.m. to 5:30 p.m. on November 19, 2002, at the Sheraton National Hotel, 900 S. Orme Street, Arlington, Virginia 22204. The meeting will be open to the public; however, seating is limited and pre-registration is encouraged (see below).

SUPPLEMENTARY INFORMATION: Under the authority of 42 U.S.C. section 217a, Section 222 of the Public Health Service Act, as amended, and 42 CFR 121.12 (2000), the ACOT was established to assist the Secretary in enhancing organ donation, ensuring that the system of organ transplantation is grounded in the best available medical science, and assuring the public that the system is as effective and equitable as possible, and, thereby, increasing public confidence in the integrity and effectiveness of the transplantation system. The ACOT is composed of 41 members, including the Chair. Members are serving as Special Government Employees and have diverse backgrounds in fields such as organ donation, health care public policy, transplantation medicine and surgery, critical care medicine and other medical specialties involved in the identification and referral of donors, non-physician transplant professions, nursing, epidemiology, immunology, law and bioethics, behavioral sciences, economics and statistics, as well as representatives of transplant candidates, transplant recipients, organ donors, and family members.

The ACOT will hear and discuss reports from the following ACOT subcommittees: Kidney/Pancreas Allocation Review; Heart/Lung Allocation Review; Liver Allocation Review; Education and Recognition of Donors; Improving Systemic Performance [The Law]; Improving Systemic Performance [The Professions]; Meeting the Needs of Multicultural Populations; and Clinical Issues.

The draft meeting agenda will be available on November 1 on the Division of Transplantation's Web site http://www.hrsa.gov/osp/dot/whatsnew.htm or the Department's donation Web site at http://www.organdonor.gov/news.htm.

A registration form is available on the Division of Transplantation's Web site: http://www.hrsa.gov/osp/dot/whatsnew.htm or the Department's donation Web site at http://www.organdonor.gov/news.htm. The completed registration form should be submitted by facsimile to McFarland and Associates, Inc., the logistical support contractor for the meeting, at FAX number (301) 589-2567. Individuals without access to the Internet who wish to register may call Paulette Wiggins with McFarland and Associates, Inc., at 301-562-5337. Individuals who plan to attend the meeting and need special assistance, such as sign language interpretation or other reasonable accommodations, should notify the ACOT Executive Director, Jack Kress, in advance of the meeting. Mr. Kress may be reached by telephone at 301-443-8653, by e-mail at: jkress2@hrsa.gov, or in writing at the address of the Division of Transplantation provided below. Management and support services for ACOT functions are provided by the Division of Transplantation, Office of Special Programs, HRSA, Room 7C-22, Parklawn Building, 5600 Fishers Lane, Rockville, Maryland 20857; telephone number 301-443-7577.

After the presentation of the subcommittee reports, members of the public will have an opportunity to provide comments on the subcommittee reports. Because of the Committee's full agenda and the time frame in which to cover the agenda topics, public comment will be limited. All public comments will be included in the record of the ACOT meeting.

Dated: October 7, 2002.
Elizabeth M. Duke,
Administrator.

[FR Doc. 02-26196 Filed 10-11-02; 8:45 am]

BILLING CODE 4165-15-P